DEPARTMENT OF ENERGY

Federal Energy Regulatory Commission

18 CFR Part 40

[Docket No. RM16-22-000]

Coordination of Protection Systems for Performance During Faults and Specific Training for Personnel Reliability Standards

Correction

Proposed Rule document 2017-25586 beginning on page 56186 was incorrectly published in the issue of Tuesday, November 28, 2017.

[FR Doc. C1-2017-25586 Filed 11-29-17; 8:45 am]

BILLING CODE 1505-01-D